DEPARTMENT OF ENERGY

Federal Energy Regulatory Commission

Combined Notice of Filings #1

Take notice that the Commission received the following electric rate filings:

Docket Numbers: ER18-391-000.

Applicants: EnPowered.

Description: Baseline eTariff Filing: Market Based Rate Tariff to be effective 12/7/2017.

Filed Date: 12/5/17.

Accession Number: 20171205-5121.

Comments Due: 5 p.m. ET 12/26/17.

Docket Numbers: ER18-392-000.

Applicants: Pacific Gas and Electric Company.

Description: § 205(d) Rate Filing: WAPA Work Performance Agreement for Cottonwood Airport 230 kV (RS 228) to be effective 12/6/2017.

Filed Date: 12/5/17.

Accession Number: 20171205-5128.

Comments Due: 5 p.m. ET 12/26/17.

Take notice that the Commission received the following electric securities filings:

Docket Numbers: ES18-13-000.

Applicants: International Transmission Company.

Description: Application under Section 204 of the Federal Power Act of International Transmission Company for authorization to issue debt securities.

Filed Date: 12/5/17.

Accession Number: 20171205-5143.

Comments Due: 5 p.m. ET 12/26/17.

Docket Numbers: ES18-14-000.

Applicants: Westar Energy, Inc.

Description: Application under Section 204 of the Federal Power Act of Westar Energy, Inc.

Filed Date: 12/5/17.

Accession Number: 20171205-5144.

Comments Due: 5 p.m. ET 12/26/17.

Docket Numbers: ES18-15-000.

Applicants: Kansas Gas and Electric Company.

Description: Application under Section 204 of the Federal Power Act of Kansas Gas and Electric Company.

Filed Date: 12/5/17.

Accession Number: 20171205-5148.

Comments Due: 5 p.m. ET 12/26/17.

Docket Numbers: ES18-16-000.

Applicants: Kansas Gas and Electric Company.

Description: Application under Section 204 of the Federal Power Act of Kansas Gas and Electric Company.

Filed Date: 12/5/17.

Accession Number: 20171205-5150.

Comments Due: 5 p.m. ET 12/26/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2017.
Nathaniel J. Davis, Sr.,
Deputy Secretary.

[FR Doc. 2017-26741 Filed 12-11-17; 8:45 am]

BILLING CODE 6717-01-P